DEPARTMENT OF HEALTH AND HUMAN SERVICES

Administration for Children and Families

Agency Recordkeeping/Reporting Requirements Under Emergency Review by the Office of Management and Budget (OMB)

Title: Application for the Emergency Form for CSBG/ARRA Expenditure Report.

OMB No.: New Collection.

Description: On February 17 2009, President Obama signed into law the American Recovery and Reinvestment Act of 2009 (Recovery Act). The Recovery Act provided for $1 billion in additional funds to the Community Services Block Grant (CSBG) program for Federal Fiscal Year 2009; however the grant period runs through FY 2010. As with regularly appropriated CSBG funds, Recovery Act funds may be used for the reduction of poverty, the revitalization of low-income communities, and the empowerment of low-income families and individuals in rural and urban areas to become fully self-sufficient.

To be in compliance with Recovery Act (Pub. L. 111-5) Section 1512(c)(1) through (B) a backup sheet was created to identify the various activities that make up the total Federal share of outlays reported on the 269A Report line 10(a). The CSBG/ARPA Fund provides resources to States, Territories, and Tribes to support work and families during this difficult economic period.

We plan to issue a backup sheet for the 269A Report with instructions for jurisdictions to complete; which would provide detail information to support line 10(a) of the aforementioned document.

Failure to collect this data would compromise ACF's ability to monitor expenditure patterns by the grantees.

Documentation maintenance on financial reporting for the CSBG Fund is governed by 45 CFR 96.30.

Respondents: State, Territory, and Tribal agencies administering the Community Service Block Grant (CSBG) Program Fund.

Annual Burden Estimates
Instrument | Number of respondents | Number of responses per respondent | Average burden hours per response | Total burden hours
CSBG/ARRA | 103 | 4 | 4 | 1,648

Estimated Total Annual Burden Hours: 1,648.

Additional Information:

ACF is requesting that OMB grant a 90 day approval for this information collection under procedures for emergency processing by July 31, 2009. A copy of this information collection, with applicable supporting documentation, may be obtained by calling the Administration for Children and Families, Reports Clearance Officer, Janean Chambers at (202) 690-6547.

Comments and questions about the information collection described above should be directed to the Office of Information and Regulatory Affairs, Attn: OMB Desk Officer for ACF, Office of Management and Budget, Paperwork Reduction Project, 725 17th Street, NW., Washington, DC 20503, FAX (202) 395-5806.

Dated: July 16, 2009.
Janean Chambers,
Reports Clearance Officer.

[FR Doc. E9-17462 Filed 7-23-09; 8:45 am]

BILLING CODE 4184-01-M